DEPARTMENT OF HEALTH AND HUMAN SERVICES

Centers for Disease Control and Prevention

[Program Announcement 01156]

Network-Based Surveillance System Initiative; Notice of Availability of Funds

A. Purpose

The Centers for Disease Control and Prevention (CDC) announces the availability of fiscal year (FY) 2001 funds for a one-year grant program for the University of New Mexico in Albuquerque, Emerging Infectious Disease Center. This program addresses the “Healthy People 2010” focus area of Immunization and Infectious Diseases.

The purpose of the program is to build a center that will allow the unique interdisciplinary expertise of multiple institutions, as well as national laboratories, be applied to epidemics and other instances of emerging infectious diseases. The intent of a center is to develop a network-based surveillance system to understand, detect, intervene and prevent emerging epidemics by working at the intersection of public health.

B. Eligible Applicants

Assistance will be provided only to the University of Mexico in Albuquerque. No other applications are solicited. Eligibility is limited to the University of New Mexico because fiscal year 2001 Federal appropriations specifically directs the Centers for Disease Control and Prevention (CDC) to award this University funds to develop a network-based surveillance system.

Note: Title 2 of the United States Code, Chapter 26, Section 1611 states that an organization described in section 501(c)(4) of the Internal Revenue Code of 1986 that engages in lobbying activities is not eligible to receive Federal funds constituting an award, grant, cooperative agreement, contract, loan or other form.

C. Availability of Funds

Approximately $921,000 is available in FY 2001 to fund the award. It is expected that the award will begin on or about July 15, 2001, and will be made for a 12-month budget period within a project period of one year.

D. Where To Obtain Additional Information

To obtain additional information, contact: Juanita Crowder, Grants Management Specialist, Grants Management Branch, Procurement and Grants Office, Centers for Disease Control and Prevention, 2920 Brandywine Road, Room 3000, Atlanta, GA 30341-4146, Telephone: 770-488-2734, Email address: JCrowder@cdc.gov.

For program technical assistance, contact: Barbara W. Kilbourne, R.N., M.P.H., Deputy, Integrated Health Information Systems, Office of the Director, Centers for Disease Control and Prevention, Mailstop D-68, Atlanta, GA 30333, 404-639-7860 (main#) ext. 7243 (pvt. line), 404-639-7770 (fax), Email address: BKilbourne@cdc.gov.

Dated: May 11, 2001.
John L. Williams,
Director, Procurement and Grants Office, Centers for Disease Control and Prevention (CDC).

[FR Doc. 01-12421 Filed 5-16-01; 8:45 am]

BILLING CODE 4163-18-P